FEDERAL MINE SAFETY AND HEALTH REVIEW COMMISSION

Sunshine Act; Notice of a Meeting

December 8, 2004.

Time and Date: 10 a.m., Thursday, December 16, 2004.

Place: The Richard V. Backley Hearing Room, 9th Floor, 601 New Jersey Avenue, NW., Washington, DC.

Status: Open.

Matters To Be Considered: The Commission will consider and act upon the following in open session:

Secretary of Labor v. Colorado Lava, Inc., Docket No. EAJ 2001-2. (Issues include whether Colorado Lava, as a prevailing party in an administrative proceeding, is entitled to a fee award under the 1996 amendments to the Equal Access to Justice Act, 5 U.S.C. 504(a)(4), and the implementing regulations of the Federal Mine Safety and Health Review Commission, 20 CFR 2704.105(b).)

Any person attending this meeting who requires special accessibility features and/or auxiliary aids, such as sign language interpreters, must inform the Commission in advance of those needs. Subject to 29 CFR 2706.150(a)(3) and 2706.160(d).

FOR FURTHER INFORMATION CONTACT: Jean Ellen, (202) 434-9950/(202) 708-9300 for TDD Relay/1-800-877-8339 for toll free.

Jean H. Ellen,
Chief Docket Clerk.

[FR Doc. 04-27641 Filed 12-14-04; 12:30 pm]

BILLING CODE 6735-01-M